DEPARTMENT OF TRANSPORTATION

Office of the Secretary

[Docket No. DOT-OST-2013-0184]

Senior Executive Service Performance Review Boards Membership

AGENCY: Office of the Secretary, Department of Transportation (DOT).

ACTION: Notice of Performance Review Board (PRB) appointments.

SUMMARY: DOT publishes the names of the persons selected to serve on the various Departmental PRBs as required by 5 U.S.C. 4314(c)(4).

FOR FURTHER INFORMATION CONTACT: Keith Washington, Director, Departmental Office of Human Resource Management, (202) 366-4088.

SUPPLEMENTARY INFORMATION: The persons named below have been selected to serve on one or more Departmental PRBs.

Issued in Washington, DC, on October 03, 2013.
Daphne Jefferson,
Assistant Secretary for Administration.

Department of Transportation

Federal Highway Administration

Alicandri, Elizabeth; Arnold, Robert E.; Bezio, Brian R.; Brown, Janice W.; Conner, Clara H.; Curtis, Joyce A.; Elston, Debra S.; Evans, Monique Redwine; Fleury, Nicolle M.; Furst, Anthony T.; Griffith, Michael S.; Holian, Thomas P.; Kehrli, Mark R.; Knopp, Martin C.; Konove, Elissa K.; Lindley, Jeffrey A.; Lucero, Amy C.; Mammano, Vincent P.; Marchese, April Lynn; McDade, Jonathan D.; McElroy, Regina Selva; Nadeau, Gregory G.; Pagan-Ortiz, Jorge E.; Paniati, Jeffrey F.; Peters, Joseph I.; Ridenour, Melisa Lee; Saunders, Ian C.; Schmidt, Robert T.; Shepherd, Gloria Morgan; Shores, Sarah J.; Solomon, Gerald L.; St Denis, Catherine; Stephanos, Peter J.; Suarez, Ricardo; Tischer, Marylynn; Trentacoste, Michael F.; Wagner, Fred R.; Waidelich, Walter C. Jr.; Whitlock, Warren S.; Winter, David R.; Wlaschin, Julius.

Federal Motor Carrier Administration

Amos, Anna J.; Collins, Anne L.; Delorenzo, Joseph P.; Dillingham, Steven D.; Fromm, Charles J.; Leone, Geraldine K.; Minor, Larry W.; Paden, William R.; Quade, William A. III; Smith, Steven K.; Van Steenburg, John W.

Federal Railroad Administration

Cummings, Stacy A.; Haley, Michael T.; Hedlund, Karen J.; Hill, Corey W.; Hynes, Ronald E.; Lauby, Robert C.; Moscoso, Brenda J.; Nissenbaum, Paul; Pennington, Rebecca A.; Porter, Melissa L.; Tunna, John M.

Federal Transit Administration

Ahmad, Mokhtee; Biehl, Scott A.; Buchanan-Smith, Henrika; Carter, Dorval R.; Garliauskas, Lucy; Gehrke, Linda M.; Hynes-Cherin, Brigid; Krochalis, Richard F.; McMillan, Therese Watkins; Mello, Mary E.; Nifosi, Dana C.; Patrick, Robert C.; Rogers, Leslie T.; Shazor, Marilyn G.; Simon, Marisol R.; Taylor, Yvette G.; Tuccillo, Robert J.; Valdes, Vincent; Welbes, Matthew J.

Maritime Administration

Bohnert, Roger V.; Brennan, Dennis J.; Brohl, Helen A.; Kumar, Shashi N.; Lesnick, H. Keith; McMahon, Christopher J.; Moschkin, Lydia; Pixa, Rand R.; Szabat, Joel M.; Tokarski, Kevin M.

National Highway Traffic Safety Administration

Beuse, Nathaniel M.; Bonanti, Christopher J.; Borris, Frank S. II; Brown, Michael L.; Coggins, Colleen P.; Donaldson, K. John; Guerci, Lloyd S.; Gunnels, Mary D.; Harris, Claude H.; Johnson, Tim J.; Lewis, Nancy L.; McLaughlin, Brian M.; McLaughlin, Susan; Michael, Jeffrey P.; Saul, Roger A.; Shelton, Terry T.; Simons, James F.; Smith, Daniel C.; Vincent, O. Kevin; Wood, Stephen P.

Office of the Secretary

Abraham, Julie; Brown, Gregory A.; Fields, George C.; Forsgren, Janet R; Geier, Paul M.; Gretch, Paul L.; Herlihy, Thomas W.; Homan, Todd M.; Horn, Donald H.; Hurdle, Lana T.; Jackson, Ronald A.; Jefferson, Daphne Y.; Jones, Mary N.; Lee, Robert M. Jr.; Lefevre, Maria S.; Lowder, Michael W.; McDermott, Susan E.; Osborne, Elizabeth D.; Petrosino-Woolverton, Marie; Podberesky, Samuel; Rivait, David J.; Scarton, Amy M.; Smith, Willie H.; Washington, Keith E.; Wells, John V.; Ziff, Laura M.

Pipeline and Hazardous Materials Safety Administration

El-Sibaie, Magdy A.; Mayberry, Alan K.; Posten, Raymond R.; Poyer, Scott A.; Schoonover, William S.; Summitt, Monica J.; Sutherland, Vanessa L. Allen; Wiese, Jeffrey DD.

Research and Innovative Technology Administration

Aylward, Anne D.; Brecht-Clark, Jan M.; Farley, Audrey L.; Hu, Patricia S.; Ishihara, David S.; Johns, Robert C.; Lang, Steven R.; Partridge, Ellen L.; Schmitt, Rolf R.; Womack, Kevin C.

Saint Lawrence Seaway Development Corporation

Middlebrook, Craig H.; Pisani, Salvatore L.

[FR Doc. 2013-24813 Filed 10-22-13; 8:45 am]

BILLING CODE 4910-9X-P